DEPARTMENT OF THE INTERIOR

National Park Service

[NPS-WASO-NAGPRA-13882; PPWOCRADN0-PCU00RP14.R50000]

Notice of Inventory Completion: U.S. Department of Agriculture, Forest Service, Coconino National Forest, Flagstaff, AZ, and Sharlot Hall Museum, Prescott, AZ

AGENCY: National Park Service, Interior.

ACTION: Notice.

SUMMARY: The U.S. Department of Agriculture (USDA), Forest Service, Coconino National Forest, and the Sharlot Hall Museum have completed an inventory of human remains and associated funerary objects, in consultation with the appropriate Indian tribes or Native Hawaiian organizations, and have determined that there is a cultural affiliation between the human remains and associated funerary objects and present-day Indian tribes or Native Hawaiian organizations. Lineal descendants or representatives of any Indian tribe or Native Hawaiian organization not identified in this notice that wish to request transfer of control of these human remains and associated funerary objects should submit a written request to the USDA Forest Service, Southwestern Region. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the USDA Forest Service, Southwestern Region, at the address in this notice by October 30, 2013.

ADDRESSES: Dr. Frank E. Wozniak, NAGPRA Coordinator, Southwestern Region, USDA Forest Service, 333 Broadway Blvd. SE., Albuquerque, NM 87102, telephone (505) 842-3238, email fwozniak@fs.fed.us.

SUPPLEMENTARY INFORMATION: Notice is here given in accordance with the Native American Graves Protection and Repatriation Act (NAGPRA), 25 U.S.C. 3003, of the completion of an inventory of human remains and associated funerary objects under the control of the USDA Forest Service, Southwestern Region. The human remains and associated funerary objects were removed from Coconino County, AZ.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the USDA Forest Service, Coconino National Forest, and the Sharlot Hall Museum professional staffs in consultation with representatives of the Hopi Tribe of Arizona.

History and Description of the Remains

In 1941, cremated human remains representing, at minimum, two individuals were removed from one of the sites in the Winona Village Complex (NA 2131, NA2133, NA 2134, NA 3644) in Coconino County, AZ, during legally authorized excavations conducted by Dr. John C. McGregor of the Museum of Northern Arizona. The cremated remains of two infants were found in two ceramic bowls. The cremated remains and the bowls were subsequently donated to the Sharlot Hall Museum, Prescott, AZ. No known individuals were identified. The two associated funerary objects are two ceramic vessels.

The Winona Village Complex is a group of pre-historic pithouse villages located in the vicinity of the present day community of Winona, AZ. The characteristics of material culture at these sites indicate that this group of pithouse villages is associated with the archeologically defined Northern Sinagua culture of north central Arizona. The material culture, architecture, and site organization indicates that the location was occupied between A.D. 1066 and 1150. The Northern Sinagua culture is considered to be ancestral to the Hopi Tribe of Arizona. Oral traditions presented by representatives of the Hopi Tribe support this cultural affiliation.

Determinations Made by the USDA Forest Service, Southwestern Region

Officials of USDA Forest Service, Southwestern Region, have determined that:

• Pursuant to 25 U.S.C. 3001(9), the human remains described in this notice represent the physical remains of two individuals of Native American ancestry.

• Pursuant to 25 U.S.C. 3001(3)(A), the two objects described in this notice are reasonably believed to have been placed with or near individual human remains at the time of death or later as part of the death rite or ceremony.

• Pursuant to 25 U.S.C. 3001(2), there is a relationship of shared group identity that can be reasonably traced between the Native American human remains and associated funerary objects and the Hopi Tribe of Arizona.

Additional Requestors and Disposition

Lineal descendants or representatives of any Indian tribe or Native Hawaiian organization not identified in this notice that wish to request transfer of control of these human remains and associated funerary objects should submit a written request with information in support of the request to Dr. Frank E. Wozniak, NAGPRA Coordinator, Southwestern Region, USDA Forest Service, 333 Broadway Blvd. SE., Albuquerque, NM 87102, telephone (505) 842-3238, email fwozniak@fs.fed.us, by October 30, 2013. After that date, if no additional requestors have come forward, transfer of control of the human remains and associated funerary objects to the Hopi Tribe of Arizona may proceed.

The USDA Forest Service, Southwestern Region, is responsible for notifying the Hopi Tribe of Arizona that this notice has been published.

Dated: August 20, 2013.
Sherry Hutt,
Manager, National NAGPRA Program.

[FR Doc. 2013-23811 Filed 9-27-13; 8:45 am]

BILLING CODE 4312-50-P